DEPARTMENT OF DEFENSE

Department of the Army

Availability of U.S. Patents for Non-Exclusive, Exclusive, or Partially-Exclusive Licensing

AGENCY: U.S. Army Research Laboratory, DoD.

ACTION: Notice.

SUMMARY: In accordance with 37 CFR 404.6, announcement is made of the availability of the following U.S. patent for non-exclusive, partially exclusive or exclusive licensing. The listed patent has been assigned to the United States of America as represented by the Secretary of the Army, Washington, D.C.

This patent covers a wide variety of technical arts including: A method for multi-sensor, multi-target tracking, An inverter which converts power from a single source into two widely different types of power outputs, and an optical amplifier that provides high brightness output.

Under the authority of Section 11(a)(2) of the Federal Technology Transfer Act of 1986 (Pub. L. 99-502) and Section 207 of Title 35, United States Code, the Department of the Army as represented by the U.S. Army Research Laboratory wish to license the U.S. patent listed below in a non-exclusive, exclusive or partially exclusive manner to any party interested in manufacturing, using, and/or selling devices or processes covered by this patent.

Title: Method and Apparatus for Multi-Sensor, Multi-Target Tracking Using a Genetic Algorithm.

Inventor: David Hillis.

Patent Number: 6,055,523.

Issued Date: April 25, 2000.

Title: Tridirectional Inverter.

Inventor: Thomas F. Podlesak.

Patent Number: 6,052,292.

Issued Date: April 18, 2000.

Title: High Brightness Optical Parametric Amplifier Array.

Inventors: Suresh Chandra, Geraldine H. Daunt and Michael J. Ferry.

Patent Number: 6,052,218.

Issued Date: April 18, 2000.

FOR FURTHER INFORMATION CONTACT: Norma Cammaratta, Technology Transfer Office, AMSRL-CS-TT, U.S. Army Research Laboratory, Adelphi, MD 20783-1197 tel: (301) 394-2952; fax: (301) 394-5818.

SUPPLEMENTARY INFORMATION: None.

Gregory D. Showalter,
Army Federal Register Liaison Officer.

[FR Doc. 00-17505 Filed 7-10-00; 8:45 am]

BILLING CODE 3710-08-M